DEPARTMENT OF HOMELAND SECURITY

Coast Guard

33 CFR Part 100

[COTP San Francisco Bay 07-008]

RIN 1625-AA08

Special Local Regulations for Marine Events; Blessing of the Fleet, Corinthian Yacht Club, San Francisco Bay, CA

AGENCY: Coast Guard, DHS.

ACTION: Notice of enforcement of regulation.

SUMMARY: The Coast Guard will enforce the special local regulations (SLR) for the annual “Blessing of the Pleasure Craft Fleet” sponsored by the Corinthian Yacht Club in the navigable waters of San Francisco Bay on April 29, 2007. This action is necessary to control vessel traffic and to ensure the safety of event participants and spectators during the formation and transit of vessels involved in the ceremonies. During the enforcement period spectator vessels may not anchor, block, loiter, nor impede the through transit of participants or official patrol vessels within the area described during the event without permission from the Coast Guard Patrol Commander.

DATES: The regulations in 33 CFR 100.1103 will be enforced from 8 a.m. to 12 p.m. on April 29, 2007.

FOR FURTHER INFORMATION CONTACT: ENS Sheral Richardson, Waterways Management Branch, U.S. Coast Guard Sector San Francisco, at (415) 556-2950 extension 140.

SUPPLEMENTARY INFORMATION: The Coast Guard will enforce the special local regulations for the Corinthian Yacht Club—Blessing of the Fleet in 33 CFR 100.1103 on April 29, 2007 from 8 a.m. to 12 p.m. in the waters of San Francisco Bay transiting the Raccoon Straits.

The Coast Guard has granted the event sponsor a marine event permit for the waterfront festival. Under the provisions of 33 CFR 100.1103, spectator vessels may not anchor, block, loiter, nor impede the through transit of participants or official patrol vessels within the area described during the event without permission from the Coast Guard Patrol Commander. The Coast Guard may be assisted by other Federal, State, or local law enforcement agencies in enforcing the SLR.

This notice is issued under authority of 33 CFR 100.1103 and 5 U.S.C. 552(a). In addition to this notice in the Federal Register, the maritime community will be provided advance notification of these events via a Broadcast Notice to Mariners. If the Captain of the Port determines that the regulated area need not be enforced for the full duration stated in this notice, he may use a Broadcast Notice to Mariners to grant general permission to enter the regulated area.

Dated: April 12, 2007.
W.J. Uberti,
Captain, U.S. Coast Guard, Captain of the Port, San Francisco.

[FR Doc. E7-7686 Filed 4-20-07; 8:45 am]

BILLING CODE 4910-15-P